DEPARTMENT OF THE INTERIOR

National Park Service

[NPS-WASO-NAGPRA-NPS0037885; PPWOCRADN0-PCU00RP14.R50000]

Notice of Intended Disposition: Arizona Army National Guard, Papago Park Miliary Reservation, Phoenix, AZ

AGENCY: National Park Service, Interior.

ACTION: Notice.

SUMMARY: In accordance with the Native American Graves Protection and Repatriation Act (NAGPRA), the Arizona Army National Guard intends to carry out the disposition of human remains, associated funerary objects, unassociated funerary objects, sacred objects, or objects of cultural patrimony removed from Federal or Tribal lands to the lineal descendants, Indian Tribe, or Native Hawaiian organization with priority for disposition in this notice.

DATES: Disposition of the human remains or cultural items in this notice may occur on or after June 10, 2024. If no claim for disposition is received by May 9, 2025, the human remains or cultural items in this notice will become unclaimed human remains or cultural items.

ADDRESSES: Shelby Manney, Deputy Environmental Programs Manager, Departments of the Army and the Air Force, Joint Force Headquarters-Arizona, Arizona Army National Guard, 5636 East McDowell Road, Phoenix, AZ 85008, telephone (602) 267-2740, email manneys@emo.azdema.gov and shelby.a.manney.nfg@army.mil.

SUPPLEMENTARY INFORMATION: This notice is published as part of the National Park Service's administrative responsibilities under NAGPRA. The determinations in this notice are the sole responsibility of the Arizona Army National Guard, and additional information on the human remains or cultural items in this notice, including the results of consultation, can be found in the related records. The National Park Service is not responsible for the identifications in this notice.

Abstract of Information Available

Based on the information available, the one object of cultural patrimony is a ceramic bowl. On May 15, 2020, the object of cultural patrimony was removed from Papago Park Military Reservation located in Phoenix, Maricopa County, Arizona. During an archaeological site condition assessment, the object was found moved from its documented location by unknown persons. Due to the potential for theft or damage, in consultation with the Indian Tribes, the Arizona Army National Guard recovered and housed the object of cultural patrimony until final disposition.

Determinations

The Arizona Army National Guard has determined that:

• The one object of cultural patrimony described in this notice has ongoing historical, traditional, or cultural importance central to the Native American group, including any constituent sub-group (such as a band, clan, lineage, ceremonial society, or other subdivision), according to the Native American traditional knowledge of an Indian Tribe or Native Hawaiian organization.

• A relationship of shared group identity can be reasonably traced between the object of cultural patrimony and the Gila River Indian Community of the Gila River Indian Reservation, Arizona, and the Salt River Pima-Maricopa Indian Community of the Salt River Reservation, Arizona.

Claims for Disposition

Written claims for disposition of the human remains or cultural items in this notice must be sent to the appropriate official identified in this notice under ADDRESSES. If no claim for disposition is received by May 9, 2025, the human remains or cultural items in this notice will become unclaimed human remains or cultural items. Claims for disposition may be submitted by:

1. Any lineal descendant, Indian Tribe, or Native Hawaiian organization identified in this notice.

2. Any lineal descendant, Indian Tribe, or Native Hawaiian organization not identified in this notice who shows, by a preponderance of the evidence, that they have priority for disposition.

Disposition of the human remains or cultural items in this notice may occur on or after June 10, 2024. If competing claims for disposition are received, the Arizona Army National Guard must determine the most appropriate claimant prior to disposition. Requests for joint disposition of the human remains or cultural items are considered a single request and not competing requests. The Arizona Army National Guard is responsible for sending a copy of this notice to the lineal descendants, Indian Tribes, and Native Hawaiian organizations identified in this notice and to any other consulting parties.

Authority: Native American Graves Protection and Repatriation Act, 25 U.S.C. 3002, and the implementing regulations, 43 CFR 10.7.

Dated: April 30, 2024.
Melanie O'Brien,
Manager, National NAGPRA Program.

[FR Doc. 2024-10160 Filed 5-8-24; 8:45 am]

BILLING CODE 4312-52-P